DEPARTMENT OF LABOR

Employment and Training Administration

[TA-W-52,553]

Berwick Weaving, Inc., Berwick, Pennsylvania; Notice of Termination of Investigation

Pursuant to section 221 of the Trade Act of 1974, as amended, an investigation was initiated on August 13, 2003, in response to a worker petition filed on behalf of workers at Berwick Weaving, Inc., Berwick, Pennsylvania.

The petitioners have requested that the petition be withdrawn. Consequently, the investigation has been terminated.

Signed at Washington, DC, this 27th day of August 2003.
Elliott S. Kushner,
Certifying Officer, Division of Trade Adjustment Assistance.

[FR Doc. 03-23716 Filed 9-16-03; 8:45 am]

BILLING CODE 4510-30-P